OFFICE OF SCIENCE AND TECHNOLOGY POLICY

Notice of Upcoming Request for Information; National Plan for Civil Earth Observations

AGENCY: Office of Science and Technology Policy (OSTP).

ACTION: Notice of upcoming request for information.

SUMMARY: The White House Office of Science and Technology Policy (OSTP) notifies the Earth Observations community that a draft of the congressionally-mandated National Plan for Civil Earth Observations (hereinafter “National Plan”) will be released for a short national review period via a subsequent Federal Register notice in Summer 2023. This notice serves to prepare the community for the upcoming request for information.

FOR FURTHER INFORMATION CONTACT: Ezinne Uzo-Okoro; tel: 202-456-4010.

SUPPLEMENTARY INFORMATION: The third National Plan is being developed by the U.S. Group on Earth Observations, a team of interagency experts. It will explore opportunities for the entire U.S. Earth Observation Enterprise—a wide variety of stakeholders, including Federal departments and agencies, national laboratories, academia, non-profits, the private sector, think tanks, and state/local/Tribal governments—to better leverage Earth Observations to address key societal challenges and trends of the coming decade.

More coordinated and effective uses of Earth Observations will improve the United States' capability to understand, monitor, and forecast changes to the Earth system, which will enhance the Earth Observation Enterprise ability to achieve key objectives (e.g., greenhouse gas emissions reductions). Beyond examining key thematic areas for which Earth Observations can be better leveraged to achieve desired future states, the third National Plan will also provide recommendations for near- and mid-term actions needed to enable the achievement of those objectives, along with discussion of technical and non-technical cross-cutting issues that transcend thematic areas.

The first National Plan for Civil Earth Observations was released in 2014 as a supplement to the 2014 Presidential Budget Request. It was written in response to a need identified by the 2013 National Strategy for Civil Earth Observations, and by section 702 of the NASA Authorization Act of 2010 (Pub. L. 111-267). The first National Plan's objective was to enable better coordination of Earth Observation data collection, management, use, and associated investment across Federal departments and agencies. The 2013 National Strategy recommended that the National Plan be updated every three years to guide policy and budget decision-making using the latest information. The second National Plan (summary, full) was released in 2019 and extended the vision for collaboration and coordination beyond the Federal Government to include the larger Earth Observation Enterprise.

Dated: May 30, 2023.
Stacy Murphy,
Deputy Chief Operations Officer/Security Officer.

[FR Doc. 2023-11796 Filed 6-1-23; 8:45 am]

BILLING CODE 3270-F1-P